DEPARTMENT OF JUSTICE

Notice of Lodging of Proposed Consent Decree Under the Resource Conservation and Recovery Act

On March 9, 2015, the Department of Justice lodged a proposed Consent Decree with the United States District Court for the District of Puerto Rico in the lawsuit United States v. Total Petroleum Puerto Rico Corp., Civil Action No. 3:15-cv-01201.

This settlement resolves the United States' allegations that Defendant Total Petroleum Puerto Rico Corp. (“Total Puerto Rico”) violated the Resource Conservation and Recovery (“Act”) and the Puerto Rico Underground Storage Tank Control Regulations (“PRUSTR”) at thirty-one facilities in Puerto Rico, and the Act and its implementing regulations set forth at 40 CFR part 280 at four facilities in the U.S. Virgin Islands, all of which contain underground storage tanks (“USTs”) owned by Total Puerto Rico. The United States' claims against Total Puerto Rico stem from the company's alleged failure to report and investigate suspected releases; to monitor for releases; to provide adequate overfill prevention and corrosion protection equipment; to secure dispensers and lines when facilities are temporarily closed; to secure monitoring wells; and to maintain records of release detection monitoring.

The proposed Consent Decree resolves these allegations by requiring that Total Puerto Rico pay a $426,000 penalty, implement injunctive relief valued at approximately $1,000,000, and undertake a Supplemental Environmental Project (“SEP”) valued at approximately $600,000. As part of the injunctive relief, Total Puerto Rico will install, or upgrade to, fully automated electronic release detection monitoring equipment at 137 facilities with Total-owned USTs in active operation. This obligation to install automated release detection monitoring equipment, which provide the best available method of release detection, will extend to any additional facilities with actively operating USTs acquired by Total Puerto Rico after the date of lodging of the Consent Decree. As part of the SEP, Total Puerto Rico will install a centralized monitoring system (CMS) for at least 125 of its facilities with actively operating USTs. The CMS technology will enable Total Puerto Rico to rapidly respond to potential releases because it transmits to and collects at one central location the information gathered from each facility equipped with electronic release detection monitoring equipment.

The publication of this notice opens a period for public comment on the Consent Decree. Comments should be addressed to the Assistant Attorney General, Environment and Natural Resources Division, and should refer to United States v. Total Petroleum Puerto Rico Corp., D.O.J. Ref. No. 90-7-1-10435. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to:

Consent Decree Library, U.S. DOJ—ENRD, P.O. Box 7611, Washington, DC 20044-7611.

Please enclose a check or money order for $14.25 (25 cents per page reproduction cost) payable to the United States Treasury. For a paper copy without the exhibits and signature pages, the cost is $10.75.

Maureen Katz,
Assistant Section Chief, Environmental Enforcement Section, Environment and Natural Resources Division.

[FR Doc. 2015-05917 Filed 3-13-15; 8:45 am]

BILLING CODE 4410-15-P